TRADE AND DEVELOPMENT AGENCY

Extension of the Agency's Current Approval for Information Collection

AGENCY: United States Trade and Development Agency.

ACTION: Notice of information collection; submission to the Office of Management and Budget (OMB) for review and approval; request for comments.

SUMMARY: In accordance with the Paperwork Reduction Act of 1995, the U.S. Trade and Development Agency (USTDA) has submitted a request to the Office of Management and Budget (OMB) to review and approve an extension for a currently approved information collection for Evaluation of USTDA Performance.

DATES: Comments on this notice must be received on or before February 2, 2024.

ADDRESSES: To access and review all of the documents related to the data collection listed in this notice, please use http://www.regulations.gov by searching the agency name. Written comments and recommendations for the proposed information collection should be submitted within 30 days of the publication of this notice on the following website: www.reginfo.gov/public/do/PRAMain. Find this particular information collection by selecting “Currently under Review—Open for Public Comments” or by using the search function and entering the title of the collection.

FOR FURTHER INFORMATION CONTACT:

Contact Sheneé Turner, Administrative Officer, Attn: PRA, U.S. Trade and Development Agency, 1101 Wilson Blvd., Suite 1100, Arlington, VA 22209-3901; Tel.: (703) 875-4357, Fax: (703) 775-4037; Email: comments@ustda.gov.

SUPPLEMENTARY INFORMATION: USTDA published its first Federal Register Notice on this data request extension on November 6, 2023, at 88 FR 7626782, at which time a 60-day comment period was announced. No comments were received in response to this notice at the end of the comment period.

Comments are invited on: (1) whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

Summary Collection Under Review

Type of Request: Extension of a currently approved information collection.

Expiration Date of Previous Approval: 01/31/2024.

Title: Evaluation of USTDA Performance.

Form Number: USTDA 1000E-2014a.

Frequency of Use: Annually for duration of projects.

Type of Respondents: Business or other for profit; not-for-profit institutions; farms; Federal, State, and local government.

Estimated Number of Responses: 1,000 to 1,300 per year.

Estimated Total Annual Burden on Respondents: 334 to 434 hours per year.

Federal Cost: $402,523.

Authority for Information Collection: Government Performance and Results Act of 1993 Public Law 103-62 or GPRA; 107 Stat. 285, the Foreign Aid Transparency and Accountability Act (Pub. L. 114-191) or FATAA, the Information Quality Act (IQA) of 2000 (Pub. L. 106-554), and Foundations for Evidence-Based Policymaking Act of 2018 Public Law 115-435.

Abstract: USTDA will collect information from various stakeholders on USTDA-funded activities regarding development and/or commercial benefits as well as evaluate success regarding GPRA objectives and support evidence-based policymaking. This information collection enables USTDA to assess the outcomes that its program investments have on U.S. commercial interests and economic development abroad. The goal of this information collection is to gather evidence and stakeholder feedback to continually improve program performance and deliver better results to U.S. taxpayers. Such information is necessary to responsibly carry out the Agency's monitoring and evaluation policy and applicable legal requirements to implement a monitoring and evaluation framework.

Dated: December 26, 2023.
Sheneé Turner,
Administrative Officer.

[FR Doc. 2023-28836 Filed 12-29-23; 8:45 am]

BILLING CODE 3410-34-P